DEPARTMENT OF TRANSPORTATION

Federal Aviation Administration

14 CFR Part 39

[Docket No. 99-NM-229-AD; Amendment 39-13347; AD 98-16-17 R1]

RIN 2120-AA64

Airworthiness Directives; Cessna Model 750 Citation X Series Airplanes

AGENCY: Federal Aviation Administration, DOT.

ACTION: Final rule; rescission.

SUMMARY: This amendment rescinds Airworthiness Directive (AD) 98-16-17 R1, which is applicable to all Cessna Model 750 Citation X series airplanes. That AD requires repetitive in-flight functional tests to verify proper operation of the secondary horizontal stabilizer pitch trim system, and repair if necessary. The requirements of that AD were intended to detect and correct contamination and damage in the system actuator, which could result in simultaneous failure of both primary and secondary pitch trim systems, and consequent reduced controllability of the airplane. Since the issuance of that AD, an improved part has been developed, which, if installed, would terminate the repetitive tests; that improved part has been installed on all affected airplanes or is being installed in production. Therefore, the identified unsafe condition no longer exists.

EFFECTIVE DATE: October 23, 2003.

FOR FURTHER INFORMATION CONTACT: Joel M. Ligon, Aerospace Engineer, Systems and Propulsion Branch, ACE-116W, FAA, Small Airplane Directorate, Wichita Aircraft Certification Office, 1801 Airport Road, Room 100, Mid-Continent Airport, Wichita, Kansas 67209; telephone (316) 946-4138; fax (316) 946-4407.

SUPPLEMENTARY INFORMATION: A proposal to amend part 39 of the Federal Aviation Regulations (14 CFR part 39) to include an airworthiness directive (AD) that is applicable to all Cessna Model 750 Citation X series airplanes was published in the Federal Register on January 7, 2000 (65 FR 1075). That action proposed to rescind AD 98-16-17, amendment 39-10693 (63 FR 42206, August 13, 1999), which currently requires repetitive in-flight functional tests of the secondary horizontal stabilizer pitch trim system, and repair if necessary.

Comments

We provided the public the opportunity to participate in the development of this AD. We received no comments on the proposed rescission.

Conclusion

We have carefully reviewed the available data and determined that air safety and the public interest require rescinding the AD as proposed.

FAA's Determination

Since AD 98-16-17 was issued, an improved part has been developed. Installation of that part terminates the repetitive tests required by the existing AD. The FAA has been advised that the improved part has been installed on all affected airplanes or will be installed in production. The FAA has determined that the previous part number is no longer available or allowed to be installed. Therefore, the identified unsafe condition no longer exists, and we have determined that it is necessary to rescind AD 98-16-17 to prevent operators from performing unnecessary actions.

The Rescission

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding an AD which removes amendment 39-10693, to read as follows:

98-16-17 R1 Cessna Aircraft Company: Amendment 39-13347. Docket No. 99-NM-229-AD. Rescinds AD 98-16-17, Amendment 39-10693.

Applicability: All Model 750 Citation X series airplanes, certificated in any category.

This rescission is effective October 23, 2003.

Issued in Renton, Washington, on October 17, 2003.
Ali Bahrami,
Acting Manager, Transport Airplane Directorate, Aircraft Certification Service.

[FR Doc. 03-26723 Filed 10-22-03; 8:45 am]

BILLING CODE 4910-13-P